DEPARTMENT OF COMMERCE

National Institute of Standards and Technology

[Docket No. 040609175-4175-01]

Establishment of a Laboratory Accreditation Program for Voting Systems Under the National Voluntary Laboratory Accreditation Program

AGENCY: National Institute of Standards and Technology, Commerce.

ACTION: Notice.

SUMMARY: In accordance with the Help America Vote Act (HAVA) and the National Voluntary Laboratory Accreditation Program (NVLAP) Procedures, the National Institute of Standards and Technology (NIST) announces that it is establishing an accreditation program for laboratories that perform testing of voting systems, including hardware and software components. This program will provide for the accreditation of laboratories that test voting systems using standards determined by the Election Assistance Commission (EAC).

Laboratories interested in seeking accreditation that will allow them to be considered for EAC recognition should contact NVLAP immediately.

ADDRESSES: National Voluntary Laboratory Accreditation Program, 100 Bureau Drive/MS 2140, Gaithersburg, MD 20899-2140.

FOR FURTHER INFORMATION CONTACT: Jeffrey Horlick, Program Manager, NVLAP, 100 Bureau Drive / MS 2140, Gaithersburg, MD 20899-2140, phone (301) 975-4016 or e-mail nvlap.voting@nist.gov. Information regarding NVLAP and the accreditation process can also be viewed at www.nist.gov/nvlap.

SUPPLEMENTARY INFORMATION:

Background

The Help America Vote Act (HAVA) of 2002 (Pub. L. 107-252) was signed into law by President Bush on October 29, 2002. Section 231 of the HAVA requires the Director of NIST to provide for the accreditation of laboratories that conduct testing on the hardware and software of voting systems. In response to the HAVA, the National Voluntary Laboratory Accreditation Program (NVLAP) is establishing a program for laboratories that test voting systems. This notice is issued in accordance with the NVLAP procedures and general requirements, found in title 15 part 285 of the Code of Federal Regulations.

Technical Requirements for the Accreditation Process

Laboratories conducting this testing will be required to meet ISO/IEC International Standard 17025, General requirements for the competence of testing and calibration laboratories, the 2002 Voting System Standards, and any other criteria deemed necessary by the EAC.

Accreditation criteria are established in accordance with the Code of Federal Regulations (15 CFR part 285), NVLAP Procedures and General Requirements. NVLAP is in full conformance with the standards of the International Organization for Standardization (ISO) and the International Electrotechnical Commission (IEC), including ISO/IEC 17025 and ISO/IEC Guide 58.

Accreditation is granted to a laboratory following successful completion of a process which includes submission of an application and payment of fees by the laboratory, an on-site assessment by technical experts, resolution of any deficiencies identified during the on-site assessment, and participation in proficiency testing. The accreditation is formalized through issuance of a Certificate of Accreditation and Scope of Accreditation.

NVLAP provides an unbiased, third-party evaluation and recognition of competence. NVLAP accreditation signifies that a laboratory has demonstrated that it operates in accordance with NVLAP management and technical requirements pertaining to quality systems; personnel; accommodation and environment; test and calibration methods; equipment; measurement traceability; sampling; handling of test and calibration items; and test and calibration reports.

NVLAP accreditation does not imply any guarantee (certification) of laboratory performance or test/calibration data; it is a finding of laboratory competence.

Those laboratories receiving accreditation by NVLAP must still be formally recognized by the EAC prior to conducting testing of voting systems under HAVA.

PRA Clearance

This action contains collection of information requirements subject to review and approval by the Office of Management and Budget (OMB) under the Paperwork Reduction Act of 1995. Collection activities for the National Voluntary Laboratory Accreditation Program are currently approved by the Office of Management and Budget under control number 0693-0003. Notwithstanding any other provision of the law, no person is required to respond to, nor shall any person be subject to a penalty for failure to comply with, a collection of information unless it displays a currently valid OMB Control Number.

Executive Order 12866

This action has been determined to be not significant under Executive Order 12866.

Dated: June 17, 2004.
Hratch G. Semerjian,
Acting Director.

[FR Doc. 04-14137 Filed 6-22-04; 8:45 am]

BILLING CODE 3510-13-P